DEPARTMENT OF JUSTICE

Office of Justice Programs

Agency Information Collection Activities: Proposed Collection; Comments Requested

ACTION: 60-day notice of information collection under review: extension of a currently approved collection NCJRS customer satisfaction surveys

The Department of Justice (DOJ), Office of Justice Programs, (OJP) National Institute of Justice has submitted the following information collection request to the Office of Management and Budget (OMB) for review and approval in accordance with the Paperwork Reduction Act of 1995. The proposed information collection is published to obtain comments from the public and affected agencies. Comments are encouraged and will be accepted for “60 days” until June 2, 2003. This process is conducted in accordance with 5 CFR 1320.10.

If you have comments, especially on the estimated public burden or associated response time, suggestions, or need a copy of the proposed information collection instrument with instructions or additional information, please contact William Ballweber, (202) 305-2975, National Institute of Justice, U.S. Department of Justice, 810 Seventh Street, NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: DOJ requests three year extension of generic clearance to conduct customer satisfaction surveys.

(2) Title of the Form/Collection: NCJRS Customer Satisfaction Surveys.

(3) Agency form number, if any, and the applicable component of the Department of Justice sponsoring the collection: Forms Numbers: NCJ-CR-01-00 thorough NCJ-CR-01-07. Office of Justice Programs, US Department of Justice.

(4) Affected public who will be asked or required to respond to survey request, as well as a brief abstract: Respondents will be current and potential users of agency products and services. Respondents may represent Federal agencies, State, local, and tribal governments, members of private organizations, research organizations, the media, non-profit organizations, international organizations, as well as faculty and students. The purpose of such surveys is to assess needs, identifying problems, and plan for programmatic improvements in the delivery of agency products and services.

(5) An estimate of the total number of respondents and the amount of time estimated for an average respondent to respond/reply: There are an estimated 7,526 respondents who complete a survey. It will take the average respondent 10 minutes to respond by mail, 6 minutes to respond using the World Wide Web, 4 minutes to respond by telephone, 90 minutes to respond by teleconference, and 90 minutes for a focus group to respond.

(6) An estimate of the total public burden (in hours) associated with the collection: There are an estimated 25,313 annual burden hours associated with this collection.

If additional information is required contact: Brenda E. Dyer, Department Deputy Clearance Officer, Information Management and Security Staff, Justice Management Division, Department of Justice, Patrick Henry Building, Suite 1600, 601 D Street NW., Washington, DC 20530.

Dated: March 24, 2003.
Brenda E. Dyer,
Department Deputy Clearance Officer, Department of Justice.

[FR Doc. 03-7712 Filed 3-31-03; 8:45 am]

BILLING CODE 4410-18-M